DEPARTMENT OF THE INTERIOR

Bureau of Land Management

[WO310/L13400000/LXSIGEOT0000/20X/; OMB Control Number 1004-0132]

Agency Information Collection Activities; Geothermal Resource Leasing and Permitting, and Geothermal Resources Unit Agreements; Control Number 1004-0132

AGENCY: Bureau of Land Management, Interior.

ACTION: Notice of information collection; request for comment.

SUMMARY: In accordance with the Paperwork Reduction Act of 1995, the Bureau of Land Management (BLM) is proposing to renew an information collection with revisions.

DATES: Interested persons are invited to submit comments on or before January 17, 2020.

ADDRESSES: Send your comments on this information collection request (ICR) by mail to Jean Sonneman, U.S. Department of the Interior, Bureau of Land Management, 1849 C Street NW, Room 2134LM, Washington, DC 20240; or by email to jsonneman@blm.gov. Please reference OMB Control Number 1004-0132 in the subject line of your comments.

FOR FURTHER INFORMATION CONTACT: To request additional information about this ICR, contact Rebecca Good by email at rgood@blm.gov, or by telephone at 307-251-3487.

SUPPLEMENTARY INFORMATION: In accordance with the Paperwork Reduction Act of 1995, the BLM provides the general public and other Federal agencies with an opportunity to comment on new, proposed, revised, and continuing collections of information. This helps to assess the impact of the BLM's information collection requirements and minimize the public's reporting burden. It also helps the public understand the BLM's information collection requirements and provides the requested data in the desired format.

The BLM is soliciting comments on the ICR that is described below. The BLM is especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology. This ICR seeks authorization for the use of Form 3200-9 (Notice of Intent to Conduct Geothermal Resource Exploration Operations) by both the BLM and the U.S. Department of Agriculture, Forest Service (USFS).

Comments that you submit in response to this notice are a matter of public record. The BLM will include or summarize each comment in our request to OMB to approve this ICR. Before including your address, phone number, email address, or other personal identifying information in your comment, you should be aware that your entire comment—including your personal identifying information—may be made publicly available at any time. While you can ask in your comment to the BLM to withhold your personal identifying information from public review, the BLM cannot guarantee that it will be able to do so.

Abstract: The BLM uses the required information to collect information from those who wish to participate in the exploration, development, production, and utilization of geothermal resources. The BLM has authority to issue geothermal leases in BLM-managed lands, and in national forests and other lands administered by the USFS. In this ICR, the BLM is proposing to revise Form 3200-9, Notice of Intent to Conduct Geothermal Resource Exploration Operations. A respondent submits this form either to the BLM or to the USFS, depending upon which agency has surface-management jurisdiction. Upon receiving such a form, the relevant agency determines whether to grant a permit to conduct geophysical exploration activities for geothermal resources. Approval by the authorizing agency is required before any ground-disturbing activities beyond casual use may commence. At present, Form 3200-9 refers directly only to the BLM. The proposed revisions of the form would simplify its use by both agencies. The BLM is proposing that the remaining forms in this ICR be renewed without revision.

Title of Collection: Geothermal Resource Leasing and Permitting, and Geothermal Resources Unit Agreements.

OMB Control Number: 1004-0132.

Forms: 3200-9, 3203-1, 3260-2, 3260-3, 3260-4, and 3260-5.

Type of Review: Revision of a currently approved collection.

Description of Respondents: Businesses that wish to participate in the exploration, development, production, and utilization of geothermal resources on BLM-managed public lands, and lands managed by other Federal surface-management agencies.

Total Estimated Number of Annual Responses: 914.

Estimated Completion Time per Response: Varies from 1 to 40 hours, depending on activity.

Total Estimated Number of Annual Burden Hours: 5,417.

Respondent's Obligation: Required to obtain or retain a benefit.

Frequency of Collection: On occasion, except for Form 3260-5, Monthly Report of Geothermal Operations, which is filed once a month.

Total Estimated Annual Nonhour Burden Cost: $83,260.

An agency may not conduct or sponsor and a person is not required to respond to a collection of information unless it displays a currently valid OMB control number. The authority for this action is the Paperwork Reduction Act of 1995 (44 U.S.C. 3501 et seq.)

Jean Sonneman,
Information Collection Clearance Officer, Bureau of Land Management,

[FR Doc. 2019-24907 Filed 11-15-19; 8:45 am]

BILLING CODE 4310-84-P